FEDERAL RESERVE SYSTEM

12 CFR Part 252

[Regulation YY; Docket No. 1438]

RIN 7100-AD-86

Enhanced Prudential Standards and Early Remediation Requirements for Covered Companies

AGENCY: Board of Governors of the Federal Reserve System (Board).

ACTION: Proposed rule; extension of comment period.

SUMMARY: On January 5, 2012, the Board published in the Federal Register a notice of proposed rulemaking for public comment to implement the enhanced prudential standards required to be established under section 165 of the Dodd-Frank Wall Street Reform and Consumer Protection Act (Dodd-Frank Act or Act) and the early remediation requirements established under section 166 of the Act.

Due to the range and complexity of the issues addressed in the rulemaking, the Board has determined that an extension of the end of the public comment period from March 31, 2012, until April 30, 2012, is appropriate. This action will allow interested persons additional time to analyze the proposed rules and prepare their comments.

DATES: Comments on the proposed rule must be received on or before April 30, 2012.

ADDRESSES: You may submit comments by any of the methods identified in the proposed rule.¹ Please submit your comments using only one method.

¹ See Enhanced Prudential Standards and Early Remediation Requirements for Covered Companies, 77 FR 594 (Jan. 5, 2012).

FOR FURTHER INFORMATION CONTACT: Molly E. Mahar, Senior Supervisory Financial Analyst, (202) 973-7360, Division of Banking Supervision and Regulation; or Laurie Schaffer, Associate General Counsel, (202) 452-2272, or Dominic A. Labitzky, Senior Attorney, (202) 452-3428, Legal Division.

SUPPLEMENTARY INFORMATION: The proposed rule was published in the Federal Register on January 5, 2012,² and would implement the enhanced prudential standards required to be established under section 165 of the Dodd-Frank Act and the early remediation requirements established under section 166 of the Act. The enhanced standards include risk-based capital and leverage requirements, liquidity standards, requirements for overall risk management (including establishing a risk committee), single-counterparty credit limits, stress test requirements, and a debt-to-equity limit for companies that the Financial Stability Oversight Council has determined pose a grave threat to financial stability.

² Id.

In recognition of the complexities of the issues addressed and the variety of considerations involved with implementation of the proposal, the Board requested that commenters respond to numerous questions. The proposed rule stated that the public comment period would close on March 31, 2012.³

³ Id.

The Board has received requests from the public for an extension of the comment period to allow for additional time for comments related to the provisions of the proposed rule.⁴ The Board believes that the additional period for comment will facilitate public comment on the provisions of the proposed rule and the questions posed by the Board. Therefore, the Board is extending the comment period for the proposed rule from March 31, 2012 to April 30, 2012.

⁴ See, e.g., Comment letters to the Board from The Clearing House et al. (Jan. 25, 2012); and The Geneva Association (Feb. 13, 2013).

By order of the Board of Governors of the Federal Reserve System, acting through the Secretary under delegated authority, March 2, 2012.
Jennifer J. Johnson,
Secretary of the Board.

[FR Doc. 2012-5522 Filed 3-6-12; 8:45 am]

BILLING CODE 6210-01-P